DEPARTMENT OF THE TREASURY

Federal Law Enforcement Training Center

Notice of Meeting

AGENCY: Federal Law Enforcement Training Center, Department of the Treasury.

ACTION: Notice of meeting.

SUMMARY: The Advisory Committee to the National Center for State and Local Law Enforcement Training at the Federal Law Enforcement Training Center will meet on September 25, 2002, beginning at 8:30 a.m. The agenda for this meeting includes remarks by the Committee Co-Chairs, Kenneth Lawson, Assistant Secretary (LE), Department of the Treasury, and Deborah Daniels, Assistant Attorney General, Office of Justice Programs, Department of Justice; progress reports on initiatives and training programs; and presentations/discussions on collaborative programs presented by the National Center. This meeting is open to the public. Anyone desiring to attend the meeting must contact Reba Fischer, the Designated Federal Officer, no later than September 16, 2002, at (912) 267-2343, to arrange clearance into the facility.

ADDRESSES: Federal Law Enforcement Training Center, Building 261, Glynco, Georgia.

FOR FURTHER INFORMATION CONTACT: Bruce P. Brown, Director, National Center for State and Local Law Enforcement Training, Federal Law Enforcement Training Center, Glynco, GA 31524, 912-267-2322.

Dated: August 29, 2002.
Bruce P. Brown,
Director, National Center for State and Local Law Enforcement Training.

[FR Doc. 02-22783 Filed 9-6-02; 8:45 am]

BILLING CODE 4810-32-P